DEPARTMENT OF ENERGY

Energy Employees Occupational Illness Compensation Program Act of 2000; Revision to the List of Covered Facilities

AGENCY: Department of Energy.

ACTION: Notice of revision of listing of covered facilities.

SUMMARY: The Department of Energy (“Department” or “DOE”) periodically publishes revisions to the list of facilities covered under the Energy Employees Occupational Illness Compensation Program Act of 2000, as amended (“EEOICPA” or “Act”). This Notice amends the list of covered facilities by correcting the location information for Dow Chemical Company in California, and removing the designation of the Ashland Oil site in Tonawanda, New York; the Middlesex Municipal Landfill in Middlesex, New Jersey; the Seaway Industrial Park in Tonawanda, New York; the Shpack Landfill in Norton, Massachusetts; and the Woburn Landfill in Woburn, Massachusetts as atomic weapons employer (“AWE”) facilities.

DATES: Effective July 16, 2015.

ADDRESSES: The Department welcomes comments on this Notice. Comments should be addressed to: Patricia R. Worthington, Ph.D., Director, Office of Health and Safety (AU-10), U.S. Department of Energy, 1000 Independence Avenue SW., Washington, DC 20585.

FOR FURTHER INFORMATION CONTACT: Patricia R. Worthington, Ph.D., Director, Office of Health and Safety (AU-10), (301) 903-5926.

SUPPLEMENTARY INFORMATION: This Notice amends the list of covered facilities by correcting the location information for Dow Chemical Company in California, and removing the designation of the Ashland Oil site in Tonawanda, New York; the Middlesex Municipal Landfill in Middlesex, New Jersey; Seaway Industrial Park in Tonawanda, New York; the Shpack Landfill in Norton, Massachusetts; and the Woburn Landfill in Woburn, Massachusetts as AWE facilities. Previous lists or revisions were published by DOE on February 11, 2013 (78 FR 9678), February 6, 2012 (77 FR 5781); May 26, 2011 (76 FR 30695); August 3, 2010 (75 FR 45608); April 9, 2009 (74 FR 16191); June 28, 2007 (72 FR 35448); November 30, 2005 (70 FR 71815); August 23, 2004 (69 FR 51825); July 21, 2003 (68 FR 43095); December 27, 2002 (67 FR 79068); June 11, 2001 (66 FR 31218); and January 17, 2001 (66 FR 4003).

Purpose

EEOICPA establishes a program to provide compensation to certain employees who develop illnesses as a result of their employment with DOE and its predecessor Agencies, as well as employees of certain of its contractors, subcontractors, beryllium vendors and AWEs. Section 7384l(4) of EEOICPA defines an AWE as “an entity, other than the United States, that—(A) processed or produced, for use by the United States, material that emitted radiation and was used in the production of an atomic weapon, excluding uranium mining and milling; and (B) is designated by the Secretary of Energy as an [AWE] for purposes of the compensation program.” Section 7384l(5) defines an AWE facility as “a facility, owned by an [AWE], that is or was used to process or produce, for use by the United States, material that emitted radiation and was used in the production of an atomic weapon, excluding uranium mining or milling.”

It has recently come to the attention of the Department that the location at which the Dow Chemical Company in California performed activities of an AWE for purposes of EEOICPA was in Pittsburg, California, not Walnut Creek, California, as previously indicated in the Federal Register.

In addition, the Ashland Oil site in Tonawanda, New York; the Middlesex Municipal Landfill in Middlesex, New Jersey; Seaway Industrial Park in Tonawanda, New York; the Shpack Landfill in Norton, Massachusetts; and the Woburn Landfill in Woburn, Massachusetts, were designated as AWE facilities in the Department's previous lists even though they did not meet the statutory definition of AWE facilities. Records related to these five locations indicate that these facilities were not owned by an AWE and do not meet the definition of AWE facilities because, as disposal or landfill sites, they did not “process” or “produce,” for use by the United States, material that emitted radiation and was used in the production of an atomic weapon. Therefore, the designation of these five locations as AWE facilities was erroneous.

This Notice formally makes the changes to the listing of covered facilities as indicated below:

• The site location for Dow Chemical Company is changed from Walnut Creek, California, to Pittsburg, California.

• The Ashland Oil site in Tonawanda, New York, in no longer designated as an AWE facility.

• The Middlesex Municipal Landfill in Middlesex, New Jersey, is no longer designated as an AWE facility. This action has no effect on the separate status of this worksite as a DOE facility in 1984 and 1986 when environmental remediation services were conducted by Bechtel National Inc., pursuant to a contract with DOE.

• Seaway Industrial Park in Tonawanda, New York, is no longer designated as an AWE facility.

• The Shpack Landfill in Norton, Massachusetts, is no longer designated as an AWE facility.

• The Woburn Landfill in Woburn, Massachusetts, is no longer designated as an AWE facility.

Issued in Washington, DC, on July 9, 2015.
Matthew B. Moury,
Associate Under Secretary for Environment, Health, Safety and Security.

[FR Doc. 2015-17443 Filed 7-15-15; 8:45 am]

BILLING CODE 6450-01-P